LEGAL SERVICES CORPORATION

Sunshine Act Meeting of the Board of Directors

TIME AND DATE: The Board of Directors of the Legal Services Corporation will meet January 30, 2004 from 5 p.m. until 5:30 p.m. and continue on January 31, 2004, from 1:30 p.m. until conclusion of the Board's agenda.

Location: January 30-31, 2004: The Melrose Hotel, 2430 Pennsylvania Avenue, NW., Washington, DC 20037.

STATUS OF MEETING: Open, except that a portion of the meeting may be closed pursuant to a vote of the Board of Directors to hold an executive session. At the closed session, the Corporation's General Counsel will report to the Board on litigation to which the Corporation is or may become a party, and the Board may act on the matters reported. The closing is authorized by 5 U.S.C. 552b(c)(2) and LSC's corresponding regulation 45 CFR 1622.5(a); 5 U.S.C. 552b(c)(6) and LSC's corresponding regulation 45 CFR 1622.5(e); 5 U.S.C. 552b(c)(7) and LSC's implementing regulation 45 CFR 1622.5(f)(4), and 5 U.S.C. 522b(c)(9)(B) and LSC's implementing regulation 45 CFR 1622.5(g); and 5 U.S.C. 552b(c)(10) and LSC's corresponding regulation 45 CFR 1622.5(h). A copy of the General Counsel's Certification that the closing is authorized by law will be available upon request.

MATTERS TO BE CONSIDERED:

Open Session

(1) Approval of agenda.

(2) Chairman's introduction and welcome of Helaine Barnett, new President of LSC.

(3) Public comment.

(4)Consider and act on motion to recess meeting to Saturday, January 31, 2004.¹

¹ The OPEN session of the Board of Directors meeting will reconvene at 1:30 p.m., on Saturday, January 31, 2004, at the same location.

(5) Consider and act on nominations for the Chairmanship of the Board of Directors.

(6) Consider and act on nominations for the Vice Chairmanship of the Board of Directors.

(7) Approval of minutes of the Board's meeting of November 22, 2003.

(8) Approval of minutes of the Executive Session of the Board's meeting of November 22, 2003.

(9) Approval of minutes of the Executive Session of the Board's meeting of November 23, 2003.

(10) Chairman's Report.

(11) Members' Reports.

(12) President's Report.

(13) Acting Inspector General's Report.

(14) Consider and act on the report of the Board's Provision for the Delivery of Legal Services Committee.

(15) Consider and act on the report of the Board's Finance Committee.

a. Consider and act on space reallocation options at LSC Headquarters and related financial implications.

b. Consider and act on the President's and Acting Inspector General's recommendations for FY 2004 Consolidated Operating Budget or Revised Temporary Operating Budget.

(16) Consider and act on the report of the Board's Operations & Regulations Committee.

a. Consider and act on possible changes to LSC's organizational chart, lines of reporting and related position designations.

(17) Consider and act on the report of the Board's Search Committee for LSC President and Inspector General.

(18) Consider and act on proposed Resolution governing Board member compensation.

(19) Consider and act on proposed Resolution authorizing the Chairman to appoint a member to the Board of Directors of Friends of the Legal Services Corporation.

(20) Consider and act on Board's meeting schedule for the remainder of calendar year 2004.

(21) Consider and act on other business.

(22) Public comment.

(23) Consider and act on whether to authorize an executive session of the Board to address items listed below in Closed Session.

Closed Session

(24) Briefing ² by the Acting Inspector General on the activities of the Office of Inspector General.

² Any portion of the closed session consisting solely of staff briefings and/or reports does not fall within the Sunshine Act's definition of the term “meeting” and, therefore, the requirements of the Sunshine Act do not apply to any such portion of the closed session. 5 U.S.C. 552(b)(a)(2) and (b). See also 45 CFR 1622.2 and 1622.3.

(25) Consider and act on General Counsel's report on potential and pending litigation involving LSC.

(26) Consider and act on motion to adjourn meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: January 22, 2004.
Victor M. Fortuno,
Vice President for Legal Affairs, General Counsel and Corporate Secretary.

[FR Doc. 04-1774 Filed 1-23-04; 11:12 am]

BILLING CODE 7050-01-P